DEPARTMENT OF ENERGY

10 CFR Part 300

RIN 1901-AB11

Guidelines for Voluntary Greenhouse Gas Reporting

AGENCY: Office of Policy and International Affairs, U.S. Department of Energy.

ACTION: Final rule; delay of effective date.

SUMMARY: The Department of Energy (DOE) published interim final General Guidelines for its Voluntary Reporting of Greenhouse Gases Program on March 24, 2005 (70 FR 15169), and published in the same issue of the Federal Register a notice of availability inviting public comment on draft Technical Guidelines needed to fully implement the revised Voluntary Reporting of Greenhouse Gases Program (70 FR 15164). DOE today is delaying the effective date of the guidelines to address the comments received by DOE in response to the March 24, 2005 Federal Register notice and to align the effective date with the likely availability of final reporting forms being developed by the Energy Information Administration.

DATES: The effective date of the rule establishing 10 CFR part 300 published in the Federal Register at 70 FR 15169 on March 24, 2005, is delayed until June 1, 2006.

FOR FURTHER INFORMATION CONTACT: Mark Friedrichs, PI-40, Office of Policy and International Affairs, U.S. Department of Energy, 1000 Independence Ave., SW., Washington, DC 20585, or e-mail: 1605bguidelines.comments@hq.doe.gov.

SUPPLEMENTARY INFORMATION: As DOE explained in the notice of interim final rulemaking, the Technical Guidelines that supplement the General Guidelines will provide the specificity necessary for DOE to fully implement the greenhouse gas emissions inventory and emissions reduction elements of the voluntary reporting guidelines (70 FR 15171). DOE received a substantial number of written comments on the Interim Final General Guidelines and draft Technical Guidelines, and DOE expects to issue final General and Technical Guidelines by the end of 2005. At that time, the Energy Information Administration (EIA) will prepare reporting forms that conform to the Final General Guidelines and Final Technical Guidelines and begin developing the electronic reporting software necessary to implement the revised Program.

Because DOE does not expect to issue final guidelines until the end of the calendar year, and because the Office of Management and Budget (OMB) clearance process under the Paperwork Reduction Act for EIA's revised reporting forms will take at least 120 days following the issuance of the final guidelines, DOE is delaying the September 20, 2005 effective date of the rule published on March 24, 2005 until June 1, 2006. This delay in the effective date will allow EIA time to complete the development of revised reporting forms, including an opportunity for public review, after the final General and Technical Guidelines are issued at the end of 2005. Once EIA has completed the development of its planned electronic reporting system, approximately 9 to 12 months after the guidelines are finalized, reporting entities would be able to use it to report under the revised guidelines. Since it is unlikely that entities will be able to report under the revised guidelines by July 1, 2006, DOE will revise the General Guidelines to provide that entities may use DOE's October 1994 guidelines for reporting in calendar year 2006. Entities that wish to report their emissions and reductions for 2005, or prior years, using the revised guidelines will be able to do so during the normal 2007 reporting cycle.

Issued in Washington, DC, on September 13, 2005.
Karen A. Harbert,
Assistant Secretary, Policy and International Affairs.

[FR Doc. 05-18628 Filed 9-15-05; 9:21 am]

BILLING CODE 6450-01-P